SECURITIES AND EXCHANGE COMMISSION

[File No. 500-1]

STB Chip Corporation; Order of Suspension of Trading

March 28, 2005.

It appears to the Securities and Exchange Commission that the public interest and the protection of investors require a suspension of trading in the securities of STB Chip Corporation (“STB Chip”) because of concerns that STB Chip may have unjustifiably relied on Rule 504 of Regulation D of the Securities Act of 1933 in conducting an unlawful distribution of its securities that failed to comply with the resale restrictions of Regulation D. Questions also have been raised regarding potentially manipulative transactions in STB Chip's common stock by certain individuals associated with the company and the accuracy of statements made in STB Chip's publicly available Information Statement concerning the beneficial ownership of its securities by one of its directors and the disciplinary history of its counsel. STB Chip, a company that has made no public filings with the Commission or the NASD, is quoted on the Pink Sheets under the ticker symbol STBX.

The Commission is of the opinion that the public interest and the protection of investors require a suspension of trading in the securities of the above-listed company.

Therefore, it is ordered, pursuant to section 12(k) of the Securities Exchange Act of 1934, that trading in the above-listed company is suspended for the period from 9:30 a.m. EST, March 28, 2005 through 11:59 p.m. EDT, on April 8, 2005.

By the Commission.
Margaret H. McFarland,
Deputy Secretary.

[FR Doc. 05-6355 Filed 3-28-05; 1:57 pm]

BILLING CODE 8010-01-P